ENVIRONMENTAL PROTECTION AGENCY

[ER-FRL-9009-6]

Environmental Impacts Statements; Notice of Availability

Responsible Agency: Office of Federal Activities, General Information (202) 564-7146 or http://www.epa.gov/compliance/nepa/.

Weekly receipt of Environmental Impact Statements

Filed 06/03/2013 through 06/07/2013.

Pursuant to 40 CFR 1506.9.

Notice

Section 309(a) of the Clean Air Act requires that EPA make public its comments on EISs issued by other Federal agencies. EPA's comment letters on EISs are available at: http://www.epa.gov/compliance/nepa/eisdata.html.

EIS No. 20130160, Final EIS, USFS, OR, McKay Fuels and Vegetation Management Project, Review Period Ends: 07/15/2013, Contact: Marcy Anderson 541-416-6463.

EIS No. 20130161, Draft EIS, USFS, MT, East Reservoir Project, Comment Period Ends: 07/29/2013, Contact: Denise Beck 406-293-7773, ext. 7504.

EIS No. 20130162, Final EIS, BLM, NM, SunZia Southwest Transmission Project, Proposed Resource Management Plan Amendments, Review Period Ends: 07/15/2013, Contact: Adrian Garcia 505-954-2199.

EIS No. 20130163, Draft EIS, FERC, AL, Martin Dam Hydroelectric Project, Relicensing, Comment Period Ends: 08/13/2013, Contact: Stephen Bowler 202-502-6861.

EIS No. 20130164, Revised Draft EIS, USAF, FL, F-35 Beddown at Eglin Air Force Base, Comment Period Ends: 07/29/2013, Contact: Mike Spaits 850-882-2836.

EIS No. 20130165, Draft EIS, BLM, SD, South Dakota Resource Management Plan, Comment Period Ends: 09/11/2013, Contact: Mitch Iverson 605-892-7008.

EIS No. 20130166, Final EIS, USFWS, NiSource Multi-Species Habitat Conservation Plan, Review Period Ends: 07/15/2013, Contact: Thomas J. Magnuson 612-713-5467.

EIS No. 20130167, Draft EIS, NOAA, MI, Thunder Bay National Marine Sanctuary, Boundary Expansion, Comment Period Ends: 08/14/2013, Contact: Jeff Gray 989-356-8805.

EIS No. 20130168, Final EIS, USACE, CA, Feather River West Levee Project Final 408 Permission, Review Period Ends: 07/15/2013, Contact: Jeffery Koschak 916-557-6994.

EIS No. 20130169, Final Supplement, NRC, TN, Operation of Watts Bar Nuclear Plant, Unit 2 NUREG-0498, Supplement 2, Review Period Ends: 07/15/2013, Contact: Elaine Keegan 301-415-8517.

EIS No. 20130170, Draft Supplement, USACE, CA, Sutter Basin Pilot Draft Feasibility Study, Comment Period Ends: 07/29/2013, Contact: Brad Johnson 916-557-7812.

Amended Notices

EIS No. 20130159, Final Supplement, USACE, IN, Indianapolis North Flood Damage Reduction Project, Review Period Ends: 07/08/2013, Contact: Keith Keeney 502-315-6885. Revision to FR Notice Published 06/07/2013; Change Agency Contact and Phone Number to Keith Keeney (502) 315-6885.

Dated: June 11, 2013.
Cliff Rader,
Director, NEPA Compliance Division, Office of Federal Activities.

[FR Doc. 2013-14195 Filed 6-13-13; 8:45 am]

BILLING CODE 6560-50-P